DEPARTMENT OF TRANSPORTATION

National Highway Traffic Safety Administration

[NHTSA-2010-0002]

Agency Information Collection Activity Under OMB Review: Uniform Criteria for State Observational Surveys of Seat Belt Use

AGENCY: National Highway Traffic Safety Administration, US DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The notice of proposed rulemaking, which included a statement of the collection of information and a 60-day comment period, was published on January 28, 2009.

DATES: Comments must be submitted on or before May 17, 2012.

FOR FURTHER INFORMATION CONTACT: Jack Oates at the National Highway Traffic Safety Administration, Office of Regional Operations and Program Delivery (NTI-200), 202-366-2730, 1200 New Jersey Avenue SE., Washington, DC 20590.

SUPPLEMENTARY INFORMATION: Title: Uniform Criteria for State Observational Surveys of Seat Belt Use.

OMB Control Number: 2127-0597.

Requested Expiration Date of Approval: Three years from the approval date.

Type of Request: Reinstatement with change of a previously approved collection.

Affected Public: State Governments (the 50 States, the District of Columbia, Puerto Rico and 4 territories).

Form Number: N/A.

Abstract: The Safe, Accountable, Flexible, Efficient Transportation Equity Act: A Legacy for Users (SAFETEA-LU) (Pub. L. 109-59) provides that the Secretary of Transportation may not approve for Section 402 funding a State highway safety program which does not provide satisfactory assurances that the State will implement an annual statewide seat belt use survey in accordance with criteria established by the Secretary to ensure that the measurements of seat belt use are accurate and representative. In addition, in 2008, the National Highway Traffic Safety Administration (NHTSA) and the Governors Highway Safety Association (GHSA) partnered to develop a voluntary minimum set of performance measures to be used by States and federal agencies in the development and implementation of behavioral highway safety plans and programs. Included in the set as the core behavior measure is B-1, observed seat belt use for passenger vehicles, front seat outboard occupants. Since the original adoption of seat belt observational survey Uniform Criteria in 1998, NHTSA and the States have accumulated substantial experience in the design and implementation of these surveys. This experience has provided insight into factors that could affect survey accuracy and reliability. In addition, technological improvements in road inventories have made it possible to select observation sites in a more cost effective manner. For these reasons, NHTSA proposed to revise the Uniform Criteria so that future surveys will give States more accurate data to guide their occupant protection programs.

The States themselves use the information collected in their seat belt use surveys to evaluate the effectiveness of their occupant protection countermeasures programs and to identify relatively low seat belt use areas and sub-populations requiring increased program emphasis. NHTSA uses the collected information, pooled across the States, to determine the relative impact of various countermeasures and program strategies and to provide guidance to assist the States in achieving the highest possible seat belt use. NHTSA also uses the collected information from individual States to identify those whose occupant protection programs would most benefit from special management reviews, countermeasure demonstration projects and other forms of technical assistance.

The information collected for the States' seat belt observational surveys is to include a specification of the survey design, to be reassessed and, if appropriate, updated every five (5) years, or earlier if the State so desires. The survey design specification will include a description of the methodology used to select the survey observation sites, the selection probability of each site, the survey observation procedures and protocols, observer training and quality control procedures. In addition, each State annually is to submit the survey results, including, for each observation site, the number of front seat outboard occupants that were observed, the number observed to be wearing the seat belt, and the site weighting factor used to combine the individual site data into the measure of statewide seat belt use.

The notice of proposed rulemaking, which included a statement of the collection of information and a 60-day comment period, was published on January 28, 2009. See 75 FR 4509. In the preamble to the final rule published on April 1, 2011, the agency explained how the collection of information contained in the final rule responded to any comments received from the public. See 76 FR 18042. The agency also included an identification and explanation of any modifications made in the rule and why it certain comments were not adopted.

Estimated Total Annual Burden: 19,040 hours.

Estimated Number of Respondents: 56 (50 States, District of Columbia, Puerto Rico, American Samoa, Guam, the Northern Mariana Islands, and the U.S. Virgin Islands).

ADDRESSES: Send comments, within 30 days, to the Office of Information and Regulatory Affairs, Office of Management and Budget, 725 17th Street NW., Washington, DC 20503. Attention NHTSA Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology.

Mary D. Gunnels,
Associate Administrator, Regional Operations and Program Delivery.

[FR Doc. 2012-9197 Filed 4-16-12; 8:45 am]

BILLING CODE 4910-59-P